DEPARTMENT OF ENERGY

Federal Energy Regulatory Commission

[Project No. 15094-002]

Ohio Power and Light, LLC; Notice of Application Tendered for Filing With the Commission and Soliciting Additional Study Requests and Establishing Procedural Schedule

Take notice that the following hydroelectric application has been filed with the Commission and is available for public inspection.

a. Type of Application: Major Original License.

b. Project No.: 15094-002.

c. Date filed: January 23, 2024.

d. Applicant: Ohio Power and Light, LLC.

e. Name of Project: Robert C. Byrd Locks and Dam Hydroelectric Project (RC Byrd Project or project).

f. Location: On the Ohio River in Mason County, West Virginia, at the U.S. Army Corps of Engineers' (Corps) Robert C. Byrd Locks and Dam. The project would occupy about 16 acres of Federal land managed by the Corps.

g. Filed Pursuant to: Federal Power Act 16 U.S.C. 791(a)-825(r).

h. Applicant Contacts: Mr. Jeremy King, P.E., Chief Executive Officer, Current Hydro LLC (agent for the applicant, Ohio Power and Light, LLC), 3120 Southwest Freeway, Suite 101, PMB 50808, Houston, TX 77098, Telephone: (706) 835-8516, Email: jeremy@currenthydro.com; and Mr. Norman Bishop, P.E., Chief Executive Engineer, Current Hydro LLC, 3120 Southwest Freeway, Suite 101, PMB 50808, Houston, TX 77098, Telephone: (303) 475-0608.

i. FERC Contact: Andy Bernick at (202) 502-8660, or andrew.bernick@ferc.gov.

j. Cooperating Agencies: Federal, State, local, and Tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: March 24, 2025.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Robert C. Byrd Locks and Dam Hydroelectric Project (P-15094-002).

m. The application is not ready for environmental analysis at this time.

n. The proposed RC Byrd Project would utilize the existing Corps' Robert C. Byrd Locks and Dam and would consist of the following new facilities: (1) two 142.5-foot-long, 110-foot-wide powerhouses each containing three 4.75-kilowatt turbine-generator units to be constructed within two decommissioned locks on the east side of the Corps' Robert C. Byrd Locks and Dam; (2) two intake channels; (3) two tailrace channels; (4) a 250-foot-long underground conduit carrying generator leads from the powerhouses to a step-up transformer contained in a substation; (5) a 69-kilovolt, 2.5-mile-long aboveground transmission line to the Apple Grove Substation, where project power would connect with the electrical grid; and (6) appurtenant facilities.

The proposed RC Byrd Project would operate in a run-of-release mode, whereby outflow from the project would approximate inflow made available for generation by the Corps. The RC Byrd Project would be projected to have an annual energy generation of about 165,169 megawatt-hours.

o. A copy of the application can be viewed on the Commission's website at https://www.ferc.gov, using the “eLibrary” link. Enter the docket number, excluding the last three digits in the docket number field, to access the document (P-15094). For assistance, contact FERC at FERCOnlineSupport@ferc.gov, or call toll-free, (866) 208-3676 or (202) 502-8659 (TTY).

You may also register online at https://www.ferc.gov/docs-filing/esubscription.asp to be notified via email of new filings and issuances related to this or other pending projects. For assistance, contact FERC Online Support.

The Commission's Office of Public Participation (OPP) supports meaningful public engagement and participation in Commission proceedings. OPP can help members of the public, including landowners, community organizations, Tribal members, and others, access publicly available information and navigate Commission processes. For public inquiries and assistance with making filings such as interventions, comments, or requests for rehearing, the public is encouraged to contact OPP at (202) 502-6595 or OPP@ferc.gov.

p. Procedural Schedule: The application will be processed according to the following preliminary schedule. Revisions to the schedule will be made as appropriate.

Milestone | Target date
Issue Deficiency Letter (if necessary) | March 2025.
Request Additional Information | March 2025.
Issue Acceptance Letter | July 2025.
Issue Scoping Document 1 for comments | August 2025.
Issue Scoping Document 2 (if necessary) | October 2025.
Issue Notice of Ready for Environmental Analysis | October 2025.

Dated: February 6, 2025.
Debbie-Anne A. Reese,
Secretary.

[FR Doc. 2025-02518 Filed 2-11-25; 8:45 am]

BILLING CODE 6717-01-P